DEPARTMENT OF TRANSPORTATION

Surface Transportation Board

[STB Docket No. AB-976 (Sub-No. 2X)]; [STB Docket No. AB-369 (Sub-No. 6X)] ¹

Pittsburg & Shawmut Railroad, LLC—Abandonment Exemption—in Clarion and Jefferson Counties, PA; Buffalo & Pittsburgh Railroad, Inc.—Discontinuance Exemption—in Clarion and Jefferson Counties, PA

¹ For administrative purposes, the discontinuance exemption sought in STB Docket No. AB-369 (Sub-No. 6X) is being divided to correspond to the two abandonment exemptions sought here and in STB Docket No. AB-1004X.

Pittsburg & Shawmut Railroad, LLC (Pittsburg & Shawmut) has filed a notice of exemption under 49 CFR Part 1152 Subpart F—Exempt Abandonments and Discontinuances of Service to abandon, and Buffalo & Pittsburgh Railroad, Inc. (BPRR), has filed a notice of exemption under the same Subpart to discontinue service and operating rights over, approximately 35.95 miles of rail line,² extending between milepost 6.0 in or near Lawsonham, Clarion County, PA, and milepost 41.95 in Brookville, Jefferson County, PA.³ Pittsburg & Shawmut states that it may retain the track between milepost 41.50 and milepost 41.95 to be operated by BPRR as private side tracks or spurs, thereby reclassifying this 0.45-mile portion of the line. The line traverses United States Postal Service Zip Codes 15864, 16216 and 16242.

² Both notices were initially filed on May 29, 2007. At the Board's request, both notices were supplemented by the applicants on June 8, 2007, with letters providing certain required certifications. Because the notices were not complete until the June 8 filings, that date will be considered the actual filing date for both notices and the basis for all due dates.

³ In its notice of exemption filed in STB Docket No. AB-369 (Sub-No. 6X), BPRR seeks discontinuance over 48.45 miles of rail line, encompassing both the 35.95 miles of rail line at issue here and the remaining 12.5 miles of rail line corresponding to the notice of exemption filed by Shannon Transport, Inc. (STI), in Shannon Transport, Inc.—Abandonment Exemption—in Clarion County, PA, STB Docket No. AB-1004X, et al.

Pittsburg & Shawmut and BPRR have certified that: (1) No local traffic has moved over the line for at least 2 years; (2) there is no overhead traffic on the line to be rerouted; (3) no formal complaint filed by a user of rail service on the line (or by a state or local government entity acting on behalf of such user) regarding cessation of service over the line either is pending with the Surface Transportation Board or with any U.S. District Court or has been decided in favor of complainant within the 2-year period; and (4) the requirements at 49 CFR 1105.7 (environmental reports), 49 CFR 1105.8 (historic reports), 49 CFR 1105.11 (transmittal letter), 49 CFR 1105.12 (newspaper publication), and 49 CFR 1152.50(d)(1) (notice to governmental agencies) have been met.

As a condition to these exemptions, any employee adversely affected by the abandonment or discontinuance shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, these exemptions will be effective on July 28, 2007, unless stayed pending reconsideration. Petitions to stay that do not involve environmental issues,⁴ formal expressions of intent to file an OFA under 49 CFR 1152.27(c)(2),⁵ and trail use/rail banking requests under 49 CFR 1152.29 must be filed by July 9, 2007. Petitions to reopen or requests for public use conditions under 49 CFR 1152.28 must be filed by July 18, 2007, with: Surface Transportation Board, 395 E Street, SW., Washington, DC 20423-0001.

⁴ The Board will grant a stay if an informed decision on environmental issues (whether raised by a party or by the Board's Section of Environmental Analysis (SEA) in its independent investigation) cannot be made before the exemption's effective date. See Exemption of Out-of-Service Rail Lines, 5 I.C.C.2d 377 (1989). Any request for a stay should be filed as soon as possible so that the Board may take appropriate action before the exemption's effective date.

⁵ Each OFA must be accompanied by the filing fee, which is currently set at $1,300. See 49 CFR 1002.2(f)(25).

A copy of any petition filed with the Board should be sent to Pittsburg & Shawmut's and BPRR's representative: Eric M. Hocky, Esquire, Gollatz, Griffin & Ewing, P.C., Four Penn Center, Suite 200, 1600 John F. Kennedy Blvd., Philadelphia, PA 19103.

If the verified notice contains false or misleading information, the exemption is void ab initio.

Pittsburg & Shawmut and BPRR, along with STI, have filed a joint combined environmental and historic report, which addresses the effects, if any, of the abandonment and discontinuance on the environment and historic resources for this line and the line addressed in Shannon Transport, Inc.—Abandonment Exemption—in Clarion County, PA, STB Docket No. AB-1004X, et al. Additionally, Pittsburg & Shawmut has filed a supplemental environmental and historic report, which specifically addresses the effects, if any, of the abandonment on this line. SEA will issue an environmental assessment (EA) by July 3, 2007. Interested persons may obtain a copy of the EA by writing to SEA (Room 1100, Surface Transportation Board, Washington, DC 20423-0001) or by calling SEA, at (202) 245-0305. [Assistance for the hearing impaired is available through the Federal Information Relay Service (FIRS) at 1-800-877-8339.] Comments on environmental and historic preservation matters must be filed within 15 days after the EA becomes available to the public.

Environmental, historic preservation, public use, or trail use/rail banking conditions will be imposed, where appropriate, in a subsequent decision.

Pursuant to the provisions of 49 CFR 1152.29(e)(2), Pittsburg & Shawmut shall file a notice of consummation with the Board to signify that it has exercised the authority granted and fully abandoned the line. If consummation has not been effected by Pittsburg & Shawmut's filing of a notice of consummation by June 28, 2008, and there are no legal or regulatory barriers to consummation, the authority to abandon will automatically expire.

Board decisions and notices are available on our Web site at http://www.stb.dot.gov.

Decided: June 18, 2007.
By the Board, David M. Konschnik, Director, Office of Proceedings.
Vernon A. Williams,
Secretary.

[FR Doc. E7-12216 Filed 6-27-07; 8:45 am]

BILLING CODE 4915-01-P